DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Construction Progress Reporting Surveys.

OMB Control Number: 0607-0153.

Form Number(s): C-700, C-700(SL), C-700(R), and C-700 (F).

Type of Request: Revision of a currently approved collection.

Number of Respondents: 24,000.

Average Hours per Response: 30 minutes for initial response; 10 minutes in succeeding months.

Burden Hours: 56,000.

Needs and Uses: The U.S. Census Bureau is requesting an extension with minor revisions of a currently approved collection for forms C-700, Private Construction Projects; C-700(R), Multifamily Residential Projects, C-700(SL), State and Local Governments Projects and C-700(F), Federal Government Projects.

These forms are used to conduct the Construction Progress Reporting Surveys (CPRS) to collect information on the dollar value of construction put in place on non-residential building projects under construction by private companies or individuals, private multifamily residential buildings, and building projects under construction by federal and state and local governments.

The Census Bureau uses the information collected on these forms to publish estimates of the monthly dollar value of construction put in place. Statistics from the CPRS become part of the monthly “Value of Construction Put in Place” or “Construction Spending” series, a Principal Economic Indicator that is used extensively by the federal government in making policy decisions and used to estimate the gross domestic product (GDP). The private sector uses the statistics for market analysis and other research. Construction now accounts for approximately five percent of GDP.

There are two changes planned to the content of these questionnaires. The first is the elimination of the data item for square footage of the construction project. This information was used for editing but is no longer needed. The second change is the addition of a data item to collect the projected completion date to assist with imputation if a response is not obtained in future months.

Form C-700 is used to collect data on construction of privately-owned nonresidential buildings and structures. Form C-700(R) is used to collect data on privately-owned residential building projects with two or more housing units. Form C-700(SL) is used to collect data on state and local government construction projects. Form C-700(F) is used to collect data on federal government construction projects.

Published statistics are used by all levels of government to evaluate economic policy, to measure progress toward national goals, to make policy decisions, and to formulate legislation. For example, Bureau of Economic Analysis (BEA) staff uses the data to develop the construction components of gross private domestic investment and government investment in the Gross Domestic Product. The Federal Reserve Board and the Department of the Treasury use the data to develop monetary policy. Private businesses and trade organizations use the data to estimate demand for building materials and to schedule production, distribution and sales efforts.

Affected Public: Business or other for-profit; Not-for-profit institutions, State, local or tribal government; Federal government.

Frequency: Monthly.

Respondent's Obligation: Voluntary.

Legal Authority: Title 13 U.S.C., sections 131 and 182.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2016-03140 Filed 2-16-16; 8:45 am]

BILLING CODE 3510-07-P